DEPARTMENT OF VETERANS AFFAIRS

[OMB Control No. 2900-0418]

Proposed Information Collection (VAAR Sections, 809.504(d), and Clause 852.209-70) Activity: Comment Request

AGENCY: Office of Management, Department of Veterans Affairs.

ACTION: Notice.

SUMMARY: The Office Management (OM), Department of Veterans Affairs (VA), is announcing an opportunity for public comment on the proposed collection of certain information by the agency. Under the Paperwork Reduction Act (PRA) of 1995, Federal agencies are required to publish notice in the Federal Register concerning each proposed collection of information, including revision of a currently approved collection, and allow 60 days for public comment in response to the notice. This notice solicits comments on the information needed to determine whether or not a firm's plant being considered for an award has been inspected by another Federal agency and whether or not an award of a contract to the firm involves a conflict of interest.

DATES: Written comments and recommendations on the proposed collection of information should be received on or before March 18, 2014.

ADDRESSES: Submit written comments on the collection of information through the Federal Docket Management System (FDMS) at www.Regulations.gov; or to Waleska Pierantoni-Monge, Office of Acquisition and Logistics (003A2A), Department of Veterans Affairs, 810 Vermont Avenue NW., Washington, DC 20420; or email: waleska.pierantoni-monge@va.gov. Please refer to “OMB Control No. 2900-0418” in any correspondence. During the comment period, comments may be viewed online through FDMS.

FOR FURTHER INFORMATION CONTACT: Waleska Pierantoni-Monge at (202) 632-5400, Fax 202-343-1434.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Title: Department of Veterans Affairs Acquisition Regulation (VAAR) Section, 809.504(d), and Clause 852.209-70.

OMB Control Number: 2900-0418.

Type of Review: Revision of a currently approved.

Abstract

a. VAAR section 809.504(d) and Clause 852.209-70 requires VA to determine whether or not to award a contract to a firm that might involve or result in a conflict of interest. VA uses the information to determine whether additional contract terms and conditions are necessary to mitigate the conflict.

Affected Public: Business or other for-profit and Not-for-profit institutions.

Estimated Annual Burden: 102.

Estimated Average Burden per Respondent: 1 hour.

Frequency of Response: On occasion.

Estimated Number of Respondents: 102.

Dated: January 14, 2014.
By direction of the Secretary.
Crystal Rennie,
VA Clearance Officer, Department of Veterans Affairs.

[FR Doc. 2014-00826 Filed 1-16-14; 8:45 am]

BILLING CODE 8320-01-P